DEPARTMENT OF THE TREASURY

Internal Revenue Service

26 CFR Part 1

[REG-167265-03]

RIN 1545-BC95

Guidance Under Section 1502; Application of Section 108 to Members of a Consolidated Group; Computation of Taxable Income When Section 108 Applies to a Member of a Consolidated Group; Correction

AGENCY: Internal Revenue Service (IRS), Treasury.

ACTION: Correction to notice of proposed rulemaking; notice of proposed rulemaking by cross-reference to temporary regulations.

SUMMARY: This document corrects a notice of proposed rulemaking; notice of proposed rulemaking by cross-reference to temporary regulations (REG-167265-03) that was published in the Federal Register on Monday, March 15, 2003 (69 FR 12091) containing proposed regulations under section 1502 that govern the timing of certain basis adjustments in respect of the realization of discharge of indebtedness income that is excluded from gross income and the reduction of attributes in respect of that excluded income.

FOR FURTHER INFORMATION CONTACT: Candace B. Ewell, (202) 622-7530 (not a toll-free number).

SUPPLEMENTARY INFORMATION:

Background

The notice of proposed rulemaking; notice of proposed rulemaking by cross reference to temporary regulations (REG-167265-03) that is the subject of this correction are under section 1502 of the Internal Revenue Code.

Need for Correction

As published, the notice of proposed rulemaking; notice of proposed rulemaking by cross reference to temporary regulations (REG-167265-03) contains errors that may prove to be misleading and are in need of clarification.

Correction of Publication

Accordingly, the notice of proposed rulemaking; notice of proposed rulemaking by cross reference to temporary regulations (REG-167265-03) is corrected as follows:

§ 1.1502-11 [Corrected]

1. On page 12095, column 1, § 1.1502-11, paragraph (c)(5), paragraph (i) of Example 1, last line in the paragraph, the language “basis of $0 and a fair market value of $10.” is corrected to read “basis of $0 and a fair market of $20.”.

2. On page 12095, column 2, paragraph (c)(5), paragraph (ii) of Example 1, line 14, the language “the principles of § 1.1501-21T(b)(2)(iv), is” is corrected to read the principles of § 1.1502-21T(b)(2)(iv) is.”.

3. On page 12096, column 3, paragraph (c)(5), paragraph (ii)(E) of Example 3, line 10, the language “COD income in the amount of $100.” is corrected to read “COD income in the amount of $80.”.

Cynthia E. Grigsby,
Acting Chief, Publications and Regulations Branch, Legal Processing Division, Associate Chief Counsel (Procedures and Administration).

[FR Doc. 04-7797 Filed 4-6-04; 8:45 am]

BILLING CODE 4830-01-P